DEPARTMENT OF AGRICULTURE

Animal and Plant Health Inspection Service

[Docket No. APHIS-2017-0102]

Third-Party Inspection Programs Under the Animal Welfare Act; Public Meetings

AGENCY: Animal and Plant Health Inspection Service, USDA.

ACTION: Notice of public meetings.

SUMMARY: We are advising the public that the Animal and Plant Health Inspection Service (APHIS) will host a series of public meetings to solicit data and information from the public to aid in the development of criteria for recognizing the use of third-party inspection and certification programs as a positive factor when determining APHIS inspection frequencies at facilities licensed or registered under the Animal Welfare Act.

DATES: The meetings will be held in Santa Clara, CA, on January 18, 2018; Riverdale, MD, on February 8, 2018; Kansas City, MO, on February 22, 2018, and Tampa, FL, on March 8, 2018. The public meetings will be held from 9 a.m. to 1 p.m., local time, except for the meeting in Maryland, which will be held from 1 p.m. to 5 p.m., local time. A virtual listening session will be held on March 14, 2018, from 1 p.m. to 5 p.m. EST. We will accept written statements regarding the use of third-party inspection and certification programs until March 21, 2018.

ADDRESSES: The public meetings will be held at the following locations:

• January 18: Santa Clara Marriott, 2700 Mission College Boulevard, Santa Clara, CA 95054;

• February 8: USDA Center at Riverside, 4700 River Road, Riverdale, MD 20737;

• February 22: USDA, Beacon Building, 6501 Beacon Road, Kansas City, MO 64133; and

• March 8: Renaissance Tampa Hotel International Plaza, 4200 Jim Walter Boulevard, Tampa, FL 33607.

You may also submit written statements using one of the following methods:

• Federal eRulemaking Portal: Go to http://www.regulations.gov/#!docketDetail;D=APHIS-2017-0102.

• Postal Mail/Commercial Delivery: Send your comment to Docket No. APHIS-2017-0102, Regulatory Analysis and Development, PPD, APHIS, Station 3A-03.8, 4700 River Road Unit 118, Riverdale, MD 20737-1238.

FOR FURTHER INFORMATION CONTACT: Mr. Mike Tuck, Management Analyst, Animal Care, APHIS, USDA 4700 River Road Unit 84, Riverdale, MD 20737; (301) 851-3747; James.M.Tuck@aphis.usda.gov.

SUPPLEMENTARY INFORMATION: The Animal and Plant Health Inspection Service (APHIS) is announcing a series of meetings to solicit data and information from the public to aid in the development of criteria for recognizing the use of third-party inspection and certification programs as a positive factor when determining APHIS inspection frequencies at facilities licensed or registered under the Animal Welfare Act (AWA). APHIS already recognizes inspections performed by other government agencies with animal welfare oversight and accreditation by the Association of Zoos & Aquariums as a positive factor when determining the frequency of Federal inspections through the use of a risk-based inspection system, and APHIS is seeking public comment on expanding this consideration to include other types of third-party inspections and certifications.

The risk-based inspection system, initiated in 1998, uses several objective criteria, including but not limited to past compliance history, to determine the minimum inspection frequency at each licensed and registered facility. With this system, APHIS has been able to provide more in-depth inspections and improve its interactions with licensees and registrants—an approach that APHIS firmly believes makes better use of its inspection resources.

The public may submit their comments in response to this notice in writing and/or at in-person and virtual listening sessions. The meetings will be held in various locations across the country and will include an internet-based virtual meeting to facilitate attendance. Participants will have the opportunity to offer written and oral comments.

Specifically, APHIS is seeking data and information regarding the following topics and questions:

1. APHIS is considering recognizing the use of qualified, third-party programs when determining APHIS inspection frequencies at regulated facilities. Would a potential reduction in the frequency of APHIS inspections be a sufficient incentive for regulated facilities to use third-party programs to support compliance under the AWA? Are there other incentives that could be offered to attract participation of regulated entities in the program? Please explain.

2. What are the advantages and disadvantages of voluntary, third-party programs to support compliance under the AWA? What potential benefits and costs might accrue to regulated facilities that elect to use a third-party program? What are the risks associated with using a third-party program?

3. Are third-party programs likely to be effective in practice? Is there potential for a well-functioning market for third-party programs to develop? Please explain. What existing third-party programs are already used by regulated facilities to help support their AWA compliance?

4. When assessing whether to recognize a third-party program, what criteria should APHIS consider to assure its independence, determine whether the scope of its services support and align with the AWA, and mitigate potential conflicts of interest and other potential risks? In addition, what information should a regulated facility provide so APHIS may verify its use of a third-party program?

5. Aside from recognizing the use of qualified, third-party programs, what are other methods APHIS could use to encourage facilities to achieve and sustain compliance with the AWA? Also, where do you see the greatest opportunity for APHIS to improve the consistency and effectiveness of its AWA program?

Registration instructions for the listening session are available by contacting the person listed under FOR FURTHER INFORMATION CONTACT or by following the instructions available via the APHIS website at: https://www.aphis.usda.gov/aphis/ourfocus/animalwelfare/sa_animal_welfare_news/third-party-inspection-certification-programs.

If you require special accommodations, such as a sign language interpreter, please contact the person listed under FOR FURTHER INFORMATION CONTACT.

Done in Washington, DC, on January 16, 2018.
Kevin Shea,
Administrator, Animal and Plant Health Inspection Service.

[FR Doc. 2018-00966 Filed 1-19-18; 8:45 am]

BILLING CODE 3410-34-P